DEPARTMENT OF THE INTERIOR

Bureau of Land Management

[LLNVS01000.L71220000. EU0000.LVTFF1604660; N-94498; 12-08807; MO# 4500109952; TAS: 14X5232]

Notice of Realty Action: Non-Competitive Direct Sale of the Reversionary Interest in a Recreation and Public Purposes Act (R&PP) Patent, in Clark County, Nevada (N-94498)

AGENCY: Bureau of Land Management, Interior.

ACTION: Notice of Realty Action.

SUMMARY: The Bureau of Land Management (BLM) intends to dispose of the reversionary interest held by the United States in a 140-acre parcel of public land in Las Vegas, Nevada, pursuant to Section 203 of the Federal Land Policy and Management Act of October 21, 1976 (FLPMA), as amended, for a non-competitive direct sale to the Black Mountain Golf and Country Club (BMGCC). The BLM has found this parcel suitable for disposal under the authority of Section 202 of FLPMA.

DATES: Interested parties may submit written comments regarding the direct sale on or before September 21, 2018.

ADDRESSES: Send written comments to the BLM Las Vegas Field Manager, 4701 North Torrey Pines Drive, Las Vegas, Nevada 89130.

FOR FURTHER INFORMATION CONTACT: Supervisory Realty Specialist Manuela Johnson at the above address, by phone at 702-515-5224, or by email at m15johns@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BMGCC is operated as a non-profit corporation. The land occupied by the BMGCC was patented on May 9, 1962, under the authority of the Recreation and Public Purposes (R&PP) Act of June 14, 1926. The purpose of the non-competitive direct sale is to dispose of the reversionary interest in the patented lands that prevents the BMGCC from using the land for other purposes.

The parcel, which was identified as suitable for direct sale of the reversionary interest, is located on the northwest corner of Horizon Drive and Mona Lane in Henderson, Nevada, and is legally described as:

Mount Diablo Meridian, Nevada

T. 22 S., R. 63 E.,

Sec. 20, E½SW¼, NW¼SW¼ and E½SW¼SW¼.

The area described contains 140 acres.

The 140-acre parcel of public land is difficult and uneconomic to manage, and meets the criteria for disposal set forth in 43 CFR 2710.0-3(a)(3). The parcel is within the boundaries of the City of Henderson and is surrounded by private lands. The parcel is not contiguous to any public land administered by the BLM. The location and absence of other contiguous public land makes the parcel impractical for the BLM to administer. Therefore, it is in the best interest of the public to dispose of this parcel of public land by direct sale procedures pursuant to 43 CFR 2711.3-3 to BMGCC.

The sale is consistent with the BLM Las Vegas Resource Management Plan (RMP) and the Record of Decision (ROD) approved on October 5, 1998. This sale would be made pursuant to Section 202 of the FLPMA, as amended, and Section 203, which authorizes a sale of public lands when the Secretary determines that the proposed sale parcel, “because of its location or other characteristics is difficult and uneconomic to manage as part of the public lands, and is not suitable for management by another Federal department or agency.” The parcel is not needed for any Federal purposes; therefore, its disposal is in the public interest.

The appraised fair market value of the parcel is $30,800,000. The appraisal report, dated February 1, 2017, is available for public review at the BLM Las Vegas Field Office.

Upon conveyance of the reversionary interest, all other terms and conditions of Patent No. 1226785 will continue to apply.

The reversionary interest will not be sold until at least October 9, 2018. The conveyance document issued will only transfer the reversionary interest retained by the United States in patent 1226785 and will contain the following terms, conditions, and reservations:

1. A right-of-way thereon for ditches or canals constructed by the authority of the United States, Act of August 30, 1890 (43 U.S.C. 945);

2. The terms and conditions of the United States Patent No. 1226785, including but not limited to, the reservation of all mineral deposits in the land so patented, and the right to prospect for, mine, and remove such deposits from the same under applicable law and regulations to be established by the Secretary of the Interior;

3. Additional terms and conditions that the authorized officer deems appropriate.

The purchaser, by accepting the release of the reversionary interest of the United States agrees to indemnify, defend, and hold the United States, its officers, agents, or employees harmless from any costs, damages, claims, causes of action, penalties, fines, liabilities, and judgements of any kind arising from the past, present, or future acts or omissions of the purchaser, its employees, agents, contractors, or lessees, or third-party arising out of or in connection with the purchaser's acceptance of the aforementioned release or purchaser's use and/or occupancy of the land involved resulting in: (1) Violations of Federal, State, and local laws and regulations that are now, or in the future become, applicable to real property; (2) judgments, claims, or demands of any kind assessed against the United States; (3) cost, expenses, or damages of any kind incurred by the United States; (4) releases or threatened releases of solid or hazardous waste(s) and/or hazardous substances(s), as defined by Federal or State environmental laws, off, on, into or under land, property, and other interests of the United States; (5) other activities by which solids or hazardous substances or wastes, as defined by Federal and State environmental laws are generated, released, stored, used, or otherwise disposed of on the land involved, and any cleanup, response, remedial action, or other actions related in any manner to said solid or hazardous substances or wastes; or (6) natural resource damages as defined by Federal and State law. Patentee shall stipulate that it will be solely responsible for compliance with all applicable Federal, State, and local environmental and regulatory provisions, throughout the life of the facility, including any closure and/or post closure requirements that may be imposed with respect to any physical plant and/or facility upon the land involved under any Federal, State, or local environmental laws or regulatory provisions. This covenant shall be construed as running with the land and may be enforced by the United States in a court of competent jurisdiction.

No warranty of any kind, express or implied, is given by the United States in connection with the sale or release of the reversionary interest. The documentation for land use conformance, National Environmental Policy Act (NEPA) procedures, a map, and the appraisal report, are available for review at the BLM Las Vegas Office located at the address listed above. A Determination of NEPA Adequacy document—with the number DOI-BLM-NV-S010-2017-0091-DNA—was prepared in connection with this Notice of Realty Action.

Interested parties may submit written comments on the direct sale of the reversionary interest for the 140-acres sale parcel. Before including your address, phone number, email address, or other personally identifying information in your comment, you should be aware that your entire comment—including your personally identifying information—may be made publicly available at any time. While you can ask the BLM in your comment to withhold your personally identifying information from public review, we cannot guarantee that we will be able to do so.

Any adverse comments will be reviewed by the BLM Nevada State Director who may sustain, vacate, or modify this realty action. In the absence of any adverse comments, the decision will become effective on October 9, 2018.

Authority: 43 CFR 2711.1-2.

Kerri-Anne Thorpe,
Acting Assistant Field Manager, Las Vegas Field Office.

[FR Doc. 2018-16854 Filed 8-6-18; 8:45 am]

BILLING CODE 4310-HC-P